DEPARTMENT OF TRANSPORTATION

Federal Aviation Administration

14 CFR Part 39

[Docket No. FAA-2015-0930; Directorate Identifier 2015-NM-040-AD; Amendment 39-18144; AD 2015-08-08]

RIN 2120-AA64

Airworthiness Directives; Airbus Airplanes

AGENCY: Federal Aviation Administration (FAA), Department of Transportation (DOT).

ACTION: Final rule; request for comments.

SUMMARY: We are superseding Airworthiness Directive (AD) 2014-26-53 and AD 2015-03-02 for certain Airbus Model A319-115, A319-133, A320-214, A320-232, and A320-233 airplanes. AD 2014-26-53 required repetitive detailed visual inspections to detect discrepancies of the wing lower skin surface and inboard main landing gear (MLG) support rib lower flange location fasteners and, depending on findings, accomplishment of applicable corrective action(s). AD 2015-03-02 required repetitive detailed visual inspections of the outboard MLG support rib lower flange fasteners for discrepancies, and corrective actions if necessary. This new AD retains the repetitive detailed visual inspections to detect discrepancies of the fasteners located in the wing lower skin surface and inboard MLG support rib lower flange with extended compliance times and repetitive intervals, and accomplishment of applicable corrective actions. This new AD also retains the repetitive detailed visual inspections of the outboard MLG support rib lower flange fasteners for discrepancies, and corrective actions if necessary. In addition, this new AD adds airplanes to the applicability. This AD was prompted by a determination that certain airplanes were missing from the applicability of AD 2014-26-53 and AD 2015-03-02 and that those airplanes may be affected by the unsafe condition addressed in AD 2014-26-53 and AD 2015-03-02. We are issuing this AD to detect and correct discrepancies of the fasteners at the external surface of the lower wing skin and inboard and outboard MLG support rib lower flanges, which could result in an airplane not meeting its maximum loads expected in service. This condition could result in structural failure.

DATES: This AD becomes effective May 12, 2015.

The Director of the Federal Register approved the incorporation by reference of a certain publication listed in this AD as of May 12, 2015.

We must receive comments on this AD by June 11, 2015.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

You may view this referenced service information at the FAA, Transport Airplane Directorate, 1601 Lind Avenue SW., Renton, WA. For information on the availability of this material at the FAA, call 425-227-1221. It is also available on the Internet at http://www.regulations.gov by searching for and locating Docket No. FAA-2015-0930.

Examining the AD Docket

You may examine the AD docket on the Internet at http://www.regulations.gov by searching for and locating Docket No. FAA-2015-0930; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Discussion

On January 7, 2015, we issued AD 2014-26-53, Amendment 39-18068 (80 FR 3155, January 22, 2015). AD 2014-26-53 applied to certain Airbus Model A319-115, A319-133, A320-214, A320-232, and A320-233 airplanes. AD 2014-26-53 was prompted by reports of failure of certain fasteners located at the wing lower skin surface and inboard MLG support rib lower flange. AD 2014-26-53 required repetitive detailed visual inspections to detect discrepancies of the wing lower skin surface and inboard MLG support rib lower flange location fasteners and, depending on findings, accomplishment of applicable corrective action(s). We issued AD 2014-26-53 to detect and correct discrepancies of the fasteners at the external surface of the lower wing skin and inboard MLG support rib lower flange, which could result in an airplane not meeting its maximum loads expected in service. This condition could result in structural failure.

On January 30, 2015, we issued AD 2015-03-02, Amendment 39-18098 (80 FR 6897, February 9, 2015). AD 2015-03-02 applied to certain Airbus Model A319-115, A319-133, A320-214, A320-232, and A320-233 airplanes. AD 2015-03-02 was prompted by reports of failure of certain fasteners on the MLG support rib lower flange. AD 2015-03-02 required repetitive detailed visual inspections of the outboard MLG support rib lower flange fasteners for discrepancies, and corrective actions if necessary. We issued AD 2015-03-02 to detect and correct discrepancies of the fasteners at the outboard MLG support rib lower flange, which could result in an airplane not meeting its maximum loads expected in service. This condition could result in structural failure.

Since we issued AD 2014-26-53, Amendment 39-18068 (80 FR 3155, January 22, 2015); and AD 2015-03-02, Amendment 39-18098 (80 FR 6897, February 9, 2015); we have determined that certain airplanes were missing from the applicability of AD 2014-26-53 and AD 2015-03-02. Airbus Model A319-132 airplanes are affected with the identified unsafe condition and should have been included in the applicability of those ADs. In addition, we have also determined that the repetitive detailed visual inspections to detect discrepancies of the wing lower skin surface and inboard MLG support rib lower flange could be extended from 8-day intervals to 60-day intervals.

The European Aviation Safety Agency (EASA), which is the Technical Agent for the Member States of the European Union, has issued EASA Airworthiness Directive 2015-0026, dated February 19, 2015 (referred to after this as the Mandatory Continuing Airworthiness Information, or “the MCAI”), to correct an unsafe condition for certain Airbus Model A319-115, A319-132, A319-133, A320-214, A320-232, and A320-233 airplanes. The MCAI states:

During production of wings, a number of taperlok fasteners were found failed after installation. The fasteners in question are located at the bottom skin of the Main Landing Gear (MLG) reinforcing plate, wing skin and Gear Support Rib 5 lower flange. Based on the results of the preliminary investigation, this affects only certain A319 and A320 aeroplanes delivered since January 2014.

This condition, if not detected and corrected could reduce the design safety margin of the structure.

Prompted by these findings, EASA issued Emergency AD 2014-0270-E (later revised) [which corresponds to certain requirements of AD 2014-26-53, Amendment 39-18068 (80 FR 3155, January 22, 2015)] to require repetitive detailed inspections (DET) of the bottom skin taperlok fasteners at the MLG Rib 5 footprint location and, depending on findings, accomplishment of applicable corrective action(s).

Since EASA AD 2014-0270R1 [which corresponds to certain requirements of AD 2015-03-02, Amendment 39-18098 (80 FR 6897, February 19, 2015)] was issued, based on in service feedback and further investigation, Airbus issued Revision 01 of Alert Operators Transmission (AOT) A57N006-14 to extend the original 8 calendar days inspection interval to 60 calendar days for the external area and for the internal inboard side. In addition, it was identified that the model A319-132 was missing from the [EASA] AD applicability.

For the reasons described above, this AD retains the requirements of EASA AD 2014-0270R1, which is superseded, to amend the Applicability and to require those actions within the new thresholds and intervals.

This [EASA] AD is still considered to be an interim action and further [EASA] AD action may follow.

You may examine the MCAI on the Internet at http://www.regulations.gov by searching for and locating Docket No. FAA-2015-0930.

Related Service Information Under 1 CFR Part 51

Airbus has issued Airbus Alert Operators Transmission (AOT) A57N006-14, Revision 01, dated February 16, 2015. The service information describes procedures for repetitive detailed visual inspections to detect discrepancies of the wing lower skin surface and inboard and outboard MLG support rib lower flange location fasteners and corrective actions. The actions described in this service information are intended to correct the unsafe condition identified in the MCAI.

This service information is reasonably available at http://www.regulations.gov by searching for and locating Docket No. FAA-2015-0930. Or see ADDRESSES for other ways to access this service information.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

An unsafe condition exists that requires the immediate adoption of this AD. The FAA has found that the risk to the flying public justifies waiving notice and comment prior to adoption of this rule because failure of more than two fasteners at the outboard MLG support rib lower flange could result in an airplane not meeting its maximum loads expected in-service. This condition could result in failure of the structure. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2015-0930; Directorate Identifier 2015-NM-040-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 148 airplanes of U.S. registry.

The actions required by AD 2014-26-53, Amendment 39-18068 (80 FR 3155, January 22, 2015); and AD 2015-03-2, Amendment 39-18098 (80 FR 6897, February 9, 2015); and retained in this AD, take about 2 work-hours per product, at an average labor rate of $85 per work-hour. Based on these figures, the estimated cost of the actions that were required by AD 2014-26-53 and AD 2015-03-06 is $170 per product, per inspection cycle.

We also estimate that it will take about 2 work-hours per product to comply with the basic requirements of this AD. The average labor rate is $85 per work-hour. Based on these figures, we estimate the cost of this AD on U.S. operators to be $25,160, or $170 per product, per inspection cycle.

In addition, we estimate that any fastener replacement will take about 3 work-hours and require parts costing $400, for a cost of $655 per fastener replacement. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2014-26-53, Amendment 39-18068 (80 FR 3155, January 22, 2015); and AD 2015-03-02, Amendment 39-18098 (80 FR 6897, February 9, 2015; and

b. Adding the following new AD:

2015-08-08 Airbus: Amendment 39-18144. Docket No. FAA-2015-0930; Directorate Identifier 2015-NM-040-AD.

(a) Effective Date

This AD becomes effective May 12, 2015.

(b) Affected ADs

This AD replaces the following:

(1) AD 2014-26-53, Amendment 39-18068 (80 FR 3155, January 22, 2015).

(2) AD 2015-03-02, Amendment 39-18098 (80 FR 6897, February 9, 2015).

(c) Applicability

This AD applies to Airbus Model A319-115, A319-132, A319-133, A320-214, A320-232, and A320-233 airplanes, certificated in any category, manufacturer serial numbers (MSN) 5817, 5826, 5837, 5848, 5855, 5864, 5875, 5886, 5896, 5910, and 5918 and subsequent.

(d) Subject

Air Transport Association (ATA) of America Code 57, Wings.

(e) Reason

This AD was prompted by a determination that certain airplanes were not included in the applicability of AD 2014-26-53, Amendment 39-18068 (80 FR 3155, January 22, 2015); and AD 2015-03-02, Amendment 39-18098 (80 FR 6897, February 9, 2015). This AD was also prompted by reports of failure of certain fasteners located at the wing lower skin surface, and inboard and outboard main landing gear (MLG) support rib lower flanges. We are issuing this AD to detect and correct discrepancies of the fasteners at the external surface of the lower wing skin and inboard and outboard MLG support rib lower flanges, which could result in an airplane not meeting its maximum loads expected in service. This condition could result in structural failure.

(f) Compliance

Comply with this AD within the compliance times specified, unless already done.

(g) Retained for All Airplanes Except Airbus Model A319-132 Airplanes: Repetitive Inspections, With Extended Compliance Time and New Service Information

This paragraph restates the requirements of paragraph (g) of AD 2014-26-53, Amendment 39-18068 (80 FR 3155, January 22, 2015), with an extended compliance time and new service information. For Airbus Model A319-115, A319-133, A320-214, A320-232, and A320-233 airplanes: Within 60 days after February 6, 2015 (the effective date of AD 2014-26-53), or within 60 days since the date of issuance of the original certificate of airworthiness or the original export certificate of airworthiness, or before further flight for any airplane that is not in operation for more than 60 days, whichever occurs later: Do the inspections required by paragraphs (g)(1) and (g)(2) of this AD, in accordance with Airbus Alert Operators Transmission (AOT) A57N006-14, Revision 00, dated December 4, 2014; or Airbus AOT A57N006-14, Revision 01, dated February 16, 2015. Repeat the inspections thereafter at intervals not to exceed 60 days. As of the effective date of this AD, only use Airbus AOT A57N006-14, Revision 01, dated February 16, 2015, to accomplish the actions required by this paragraph.

(1) Do a detailed visual inspection of the external surface of the left-hand and right-hand wing lower skin surface to detect missing or broken or migrated fasteners.

(2) Do a detailed visual inspection of the inboard MLG support rib lower flange to detect missing or broken nuts or fastener tails.

(h) Retained for All Airplanes Except Airbus Model A319-132 Airplanes: Corrective Actions for the Inspections Required by Paragraph (g)(1) of This AD, With New Service Information

This paragraph restates the requirements of paragraph (h) of AD 2014-26-53, Amendment 39-18068 (80 FR 3155, January 22, 2015), with new service information.

(1) If, during any inspection required by paragraph (g)(1) of this AD, only one discrepancy (any missing or broken or migrated fastener) is found on the left- or right-side: Before further flight, do corrective actions in accordance with a method approved by the Manager, International Branch, ANM-116, Transport Airplane Directorate, FAA. Replacement of fasteners on an airplane does not constitute terminating action for any inspection required by paragraph (g) of this AD.

(2) If, during any inspection required by paragraph (g)(1) of this AD, more than one discrepancy (any missing or broken or migrated fastener) is found on the left- or right-side: Before further flight, replace all affected fasteners on the affected side(s), in accordance with Airbus AOT A57N006-14, Revision 00, dated December 4, 2014; or Airbus AOT A57N006-14, Revision 01, dated February 16, 2015. One fastener per side may be missing or broken or migrated provided the applicable actions required by paragraph (h)(1) of this AD are done. Replacement of fasteners on an airplane does not constitute terminating action for any inspection required by paragraph (g) of this AD. As of the effective date of this AD, only use Airbus AOT A57N006-14, Revision 01, dated February 16, 2015, to accomplish the actions required by this paragraph.

(i) Retained for All Airplanes Except Airbus Model A319-132 Airplanes: Corrective Actions for the Inspections Required by Paragraph (g)(2) of This AD, With New Service Information

This paragraph restates the requirements of paragraph (i) of AD 2014-26-53, Amendment 39-18068 (80 FR 3155, January 22, 2015), with new service information.

(1) If, during any inspection required by paragraph (g)(2) of this AD, only one discrepancy (any missing or broken nut or fastener tail) is found on the left- or right-side: Before further flight, do corrective actions in accordance with a method approved by the Manager, International Branch, ANM-116, Transport Airplane Directorate, FAA. Replacement of fasteners on an airplane does not constitute terminating action for any inspection required by paragraph (g) of this AD.

(2) If, during any inspection required by paragraph (g)(2) of this AD, more than one discrepancy (any missing or broken nut or fastener tail) is found on the left- or right-side: Before further flight, replace all affected fasteners on the affected side(s), in accordance with Airbus AOT A57N006-14, Revision 00, dated December 4, 2014; or Airbus AOT A57N006-14, Revision 01, dated February 16, 2015. One fastener per side may be missing or broken or migrated provided the applicable actions required by paragraph (i)(1) of this AD are done. Replacement of fasteners on an airplane does not constitute terminating action for any inspection required by paragraph (g) of this AD. As of the effective date of this AD, only use Airbus AOT A57N006-14, Revision 01, dated February 16, 2015, to accomplish the actions required by this paragraph.

(j) Retained for All Airplanes Except Airbus Model A319-132 Airplanes: Repetitive Inspections of the Outboard MLG Support Rib Lower Flange, With New Service Information

This paragraph restates the requirements of paragraph (g) of AD 2015-03-02, Amendment 39-18098 (80 FR 6897, February 9, 2015), with new service information. For Airbus Model A319-115, A319-133, A320-214, A320-232, and A320-233 airplanes: Within 4 months after February 24, 2015 (the effective date of AD 2015-03-02), or within 4 months after the date of issuance of the original certificate of airworthiness or the original export certificate of airworthiness, or before further flight for any airplane that is not in operation for more than 4 months, whichever occurs latest: Do a detailed visual inspection of the left and right outboard MLG support rib lower flange to detect any discrepancy (broken or missing fastener tails or nuts), in accordance with Airbus AOT A57N006-14, Revision 00, dated December 4, 2014; or Airbus AOT A57N006-14, Revision 01, dated February 16, 2015. Repeat the inspection thereafter at intervals not to exceed 4 months. As of the effective date of this AD, only use Airbus AOT A57N006-14, Revision 01, dated February 16, 2015, for the actions required by this paragraph.

(k) Retained for All Airplanes Except Airbus Model A319-132 Airplanes: Corrective Actions for the Inspections Required by Paragraph (j) of This AD, With New Service Information

This paragraph restates the requirements of paragraph (h) of AD 2015-03-02, Amendment 39-18098 (80 FR 6897, February 9, 2015), with new service information. If, during any inspection required by paragraph (j) of this AD, any discrepancy is found on the left or right outboard MLG support rib lower flange: Before further flight, replace all affected fasteners on the affected side(s), in accordance with Airbus AOT A57N006-14, Revision 00, dated December 4, 2014; or Airbus AOT A57N006-14, Revision 01, dated February 16, 2015. Replacement of fasteners on an airplane does not constitute terminating action for the repetitive inspections required by paragraph (j) of this AD. As of the effective date of this AD, only use Airbus AOT A57N006-14, Revision 01, dated February 16, 2015, for the actions required by this paragraph.

(l) For Airbus Model A319-132 Airplanes: New Repetitive Inspections of External Surface of Wing Lower Skin and Inboard MLG Support Rib Lower Flange

For Airbus Model A319-132 airplanes: Within 60 days after the effective date of this AD, or within 60 days since the date of issuance of the original certificate of airworthiness or the original export certificate of airworthiness, or before further flight for any airplane that is not in operation for more than 60 days, whichever occurs later: Do the inspections required by paragraphs (l)(1) and (l)(2) of this AD, in accordance with Airbus AOT A57N006-14, Revision 01, dated February 16, 2015. Repeat the inspections thereafter at intervals not to exceed 60 days.

(1) Do a detailed visual inspection of the external surface of the left-hand and right-hand wing lower skin surface to detect missing or broken or migrated fasteners.

(2) Do a detailed visual inspection of the inboard MLG support rib lower flange to detect missing or broken nuts or fastener tails.

(m) For Airbus Model A319-132 Airplanes: Corrective Actions for the Inspections Required by Paragraph (l)(1) of This AD

(1) If, during any inspection required by paragraph (l)(1) of this AD, only one discrepancy (any missing or broken or migrated fastener) is found on the left- or right-side: Before further flight, do corrective actions in accordance with a method approved by the Manager, International Branch, ANM-116, Transport Airplane Directorate, FAA. Replacement of fasteners on an airplane does not constitute terminating action for any inspection required by paragraph (l) of this AD.

(2) If, during any inspection required by paragraph (l)(1) of this AD, more than one discrepancy (any missing or broken or migrated fastener) is found on the left- or right-side: Before further flight, replace all affected fasteners on the affected side(s), in accordance with Airbus AOT A57N006-14, Revision 01, dated February 16, 2015. One fastener per side may be missing or broken or migrated provided the applicable actions required by paragraph (m)(1) of this AD are done. Replacement of fasteners on an airplane does not constitute terminating action for any inspection required by paragraph (l) of this AD.

(n) For Airbus Model A319-132 Airplanes: Corrective Actions for the Inspections Required by Paragraph (l)(2) of This AD

(1) If, during any inspection required by paragraph (l)(2) of this AD, only one discrepancy (any missing or broken nut or fastener tail) is found on the left- or right-side: Before further flight, do corrective actions in accordance with a method approved by the Manager, International Branch, ANM-116, Transport Airplane Directorate, FAA. Replacement of fasteners on an airplane does not constitute terminating action for any inspection required by paragraph (l) of this AD.

(2) If, during any inspection required by paragraph (l)(2) of this AD, more than one discrepancy (any missing or broken nut or fastener tail) is found on the left- or right-side: Before further flight, replace all affected fasteners on the affected side(s), in accordance with Airbus AOT A57N006-14, Revision 01, dated February 16, 2015. One fastener per side may be missing or broken or migrated provided the applicable actions required by paragraph (n)(1) of this AD are done. Replacement of fasteners on an airplane does not constitute terminating action for any inspection required by paragraph (l) of this AD.

(o) For Airbus Model A319-132 Airplanes: New Repetitive Inspections of Outboard MLG Support Rib Lower Flange

For Airbus Model A319-132 airplanes: Within 4 months after the effective date of this AD, or within 4 months after the date of issuance of the original certificate of airworthiness or the original export certificate of airworthiness, or before further flight for any airplane that is not in operation for more than 4 months, whichever occurs later: Do a detailed visual inspection of the left and right outboard MLG support rib lower flange to detect any discrepancy (broken or missing fastener tails or nuts), in accordance with Airbus AOT A57N006-14, Revision 01, dated February 16, 2015. Repeat the inspection thereafter at intervals not to exceed 4 months.

(p) For Airbus Model A319-132 Airplanes: Corrective Actions for the Inspections Required by Paragraph (o) of This AD

If, during any inspection required by paragraph (o) of this AD, any discrepancy is found on the left or right outboard MLG support rib lower flange: Before further flight, replace all affected fasteners on the affected side(s), in accordance with Airbus AOT A57N006-14, Revision 01, dated February 16, 2015. Replacement of fasteners on an airplane does not constitute terminating action for the repetitive inspections required by paragraph (o) of this AD.

(q) Credit for Previous Actions

This paragraph provides credit for actions required by paragraphs (l), (m)(2), (n)(2), (o), and (p) of this AD, if those actions were performed before the effective date of this AD using Airbus AOT A57N006-14, Revision 00, dated December 4, 2014, which was incorporated by reference in AD 2014-26-53, Amendment 39-18068 (80 FR 3155, January 22, 2015).

(r) Other FAA AD Provisions

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2014-26-53, Amendment 39-18068 (80 FR 3155, January 22, 2015); and AD 2015-03-02, Amendment 39-18098 (80 FR 6897, February 19, 2015); are approved as AMOCs for the corresponding provisions of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(s) Special Flight Permits

Special flight permits, as described in Section 21.197 and Section 21.199 of the Federal Aviation Regulations (14 CFR 21.197 and 21.199), are not allowed.

(t) Related Information

(1) Refer to Mandatory Continuing Airworthiness Information (MCAI) EASA Airworthiness Directive 2015-0026, dated February 19, 2015, for related information. This MCAI may be found in the AD docket on the Internet at http://www.regulations.gov by searching for and locating Docket No. FAA-2015-0930.

(2) Service information identified in this AD that is not incorporated by reference is available at the addresses specified in paragraphs (u)(3) and (u)(4) of this AD.

(u) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A57N006-14, Revision 01, dated February 16, 2015.

(ii) Reserved.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 14, 2015.
Michael Kaszycki,
Acting Manager, Transport Airplane Directorate, Aircraft Certification Service.

[FR Doc. 2015-09465 Filed 4-24-15; 8:45 am]

BILLING CODE 4910-13-P